DEPARTMENT OF TRANSPORTATION

Pipeline and Hazardous Materials Safety Administration

Office of Hazardous Materials Safety; Notice of Applications for Modification of Special Permit

AGENCY: Pipeline and Hazardous Materials Safety Administration, DOT.

ACTION: List of Applications for Modification of Special Permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffic “M” denote a modification request. These applications have been separated from the new applications for special permits to facilitate processing.

DATES: Comments must be received on or before May 1, 2006.

ADDRESSES: Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street SW., Washington, DC or at http://dms.dot.gov.

This notice of receipt of applications for modification of special permits is published in accordance with Part 107 of the Federal hazardous materials transportation law (49 U.S.C. 5117(b); 49 CFR 1.53(b)).

Issued in Washington, DC, on April 11, 2006.
R. Ryan Posten,
Chief, Special Permits Program, Office of Hazardous Materials, Special Permits & Approvals.

Modification Special Permits
Application number | Docket number | Applicant | Regulation(s) affected | Modification of special permit | Nature of special permit thereof
5749-M |  | E.I. DuPont de Nemours Wilmington, DE | 49 CFR 173.315(a) | 5749 | To modify the special permit to authorize new portable tank valve designs suitable for hazardous materials service.
8915-M |  | MEMC, Pasadena, TX | 49 CFR 173.302a(a)(3); 173.301(d); 173.302a(a)(5) | 8915 | To modify the special permit to authorize utilization of acoustic emission and ultrasonic examination as an alternative method for cylinder requalification.
9030-M |  | LND, Inc. Oceanside, NY | 49 CFR 173.302; 175.3 | 9030 | To modify the special permit to authorize the transportation in commerce of an additional Division 2.2 gas (Xenon).
10529-M |  | LND, Inc. Oceanside, NY | 49 CFR 173.302; 175.3 | 10529 | To modify the special permit to authorize additional Division 2.1 and 2.2 gases.
1102-M |  | Newport News Shipbuilding and Dry Dock Company (NNS) Newport News, VA | 49 CFR Part 172; Part 173 | 11202 | To modify the special permit to authorize the transportation of Class 7, 8, and 9 materials across a public road by motor vehicle.
12277-M | RSPA-1999-5797 | Indian Sugar and General Engineering Corporation Haryana | 49 CFR 173.3; 173.304 | 12277 | To modify the special permit to authorize updated designs of the non-DOT specification pressure vessel for the transportation of Division 2.1, 2.2 and additional 2.3 materials.
14175-M | PHMSA-2005-20903 | Airgas Cheyenne, WY | 49 CFR 180.209 | 14175 | To modify the special permit to authorize bundling of cylinders with up to 24 cylinders per bundle.

[FR Doc. 06-3589 Filed 4-13-06; 8:45 am]

BILLING CODE 4909-60-M